ENVIRONMENTAL PROTECTION AGENCY

[EPA-HQ-OAR-2025-0085; FRL-13054-01-OMS]

Agency Information Collection Activities; Submission to the Office of Management and Budget for Review and Approval; Comment Request; Renewable Fuel Standard (RFS) Program: RFS Annual Rules (Renewal)

AGENCY: Environmental Protection Agency (EPA).

ACTION: Notice.

SUMMARY: The Environmental Protection Agency (EPA) has submitted an information collection request (ICR), Renewable Fuel Standard (RFS) Program: RFS Annual Rules (EPA ICR Number 2691.03, OMB Control Number 2060-0740) to the Office of Management and Budget (OMB) for review and approval in accordance with the Paperwork Reduction Act. This is a proposed extension of the ICR, which is currently approved through October 31, 2025. Public comments were previously requested via the Federal Register on April 28, 2025, during a 60-day comment period. This notice allows for an additional 30 days for public comments.

DATES: Comments may be submitted on or before November 28, 2025.

ADDRESSES: Submit your comments, referencing Docket ID Number EPA-HQ-OAR-2025-0085, to EPA online using www.regulations.gov (our preferred method), by email to EPA-HQ-OAR-2025-0085, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: John D. Weihrauch Office of Air and Radiation, Mail Code 6405A, Environmental Protection Agency, 1200 Pennsylvania Ave. NW, Washington, DC 20460; telephone number: 202-343-9477; email address: weihrauch.john@epa.gov.

SUPPLEMENTARY INFORMATION: This is a proposed extension of the ICR, which is currently approved through October 25, 2025. An agency may not conduct or sponsor and a person is not required to respond to a collection of information unless it displays a currently valid OMB control number.

Public comments were previously requested via the Federal Register on April 28, 2025 during a 60-day comment period (90 FR 17593). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR is for provisions regarding biointermediates in the Renewable Fuel Standard (RFS) program. A “biointermediate” is produced from a renewable biomass feedstock at a biointermediate production facility and is not itself a renewable fuel; the biointermediate will be processed into a renewable fuel at a subsequent renewable fuel production facility. The biointermediate provisions were included in the EPA's finale rulemaking to establish RFS volume standards for 2020, 2021, and 2022 (87 FR 39600, July 1, 2022).

The recordkeeping and reporting requirements allow the EPA to monitor compliance from biointermediate producers, renewable identification number (RIN) generators who are renewable fuel producers who use biointermediates, biointermediate producers, and specific third parties (e.g., quality assurance plan, or QAP, providers). This ICR is related to the general collection related to RFS, which bears OMB Control No. 2060-0725 (expiring November 30, 2025).

Form Numbers: RFS0107 (5900-631), RFS0602 (5900-290), RFS0702 (5900-289), RFS0801 (5900-293), RFS0902 (5900-278), RFS2001 (5900-633), RFS2101 (5900-634), RFS2201 (5900-635), RFS2301 (5900-636), RFS2400 (5900-361), RFS4000 (5900-529).

Respondents/affected entities: Biointermediate producers, RIN generators (renewable fuel producers), biointermediate importers, third parties (including QAP providers).

Respondent's obligation to respond: mandatory under 40 CFR parts 80 and 1090.

Estimated number of respondents: 892 (total).

Frequency of response: Quarterly, annually, on occasion.

Total estimated burden: 27,871 hours (per year). Burden is defined at 5 CFR 1320.03(b).

Total estimated cost: $2,062,900 (per year), which includes $0 annualized capital or operation & maintenance costs.

Changes in the Estimates: There is a decrease of 139,514 hours in the total estimated respondent burden compared with the ICR currently approved by OMB. This decrease is due to fewer regulated parties utilizing biointermediates in the RFS than was originally anticipated. We shared our estimates with industry respondents who perform recordkeeping and reporting functions. Based upon their feedback we increased some estimates in our calculations related to third party auditor activities performed, but those did not change the overall decrease in burden due to fewer participants.

Courtney Kerwin,
Director, Information Engagement Division.

[FR Doc. 2025-19686 Filed 10-28-25; 8:45 am]

BILLING CODE 6560-50-P